DEPARTMENT OF COMMERCE

Office of the Secretary

Estimates of the Voting Age Population for 2011

AGENCY: Office of the Secretary, Commerce.

ACTION: General Notice Announcing Population Estimates.

SUMMARY: This notice announces the voting age population estimates as of July 1, 2011, for each state and the District of Columbia. We are providing this notice in accordance with the 1976 amendment to the Federal Election Campaign Act, Title 2, United States Code, Section 441a(e).

FOR FURTHER INFORMATION CONTACT: Enrique Lamas, Chief, Population Division, U.S. Census Bureau, Room HQ-5H174, Washington, DC 20233, at (301) 763-2071.

SUPPLEMENTARY INFORMATION: Under the requirements of the 1976 amendment to the Federal Election Campaign Act, Title 2, United States Code, Section 441a(e), I hereby give notice that the estimates of the voting age population for July 1, 2011, for each state and the District of Columbia are as shown in the following table.

Estimates of the Population of Voting Age for Each State and the District of Columbia: July 1, 2011
Area | Population 18 and over | Area | Population 18 and over
United States | 237,657,645 |  |
Alabama | 3,675,597 | Missouri | 4,598,567
Alaska | 534,277 | Montana | 775,845
Arizona | 4,857,391 | Nebraska | 1,382,576
Arkansas | 2,227,505 | Nevada | 2,059,547
California | 28,419,993 | New Hampshire | 1,038,210
Colorado | 3,886,708 | New Jersey | 6,778,345
Connecticut | 2,777,395 | New Mexico | 1,562,805
Delaware | 702,467 | New York | 15,179,189
District of Columbia | 512,662 | North Carolina | 7,368,808
Florida | 15,063,111 | North Dakota | 532,776
Georgia | 7,325,352 | Ohio | 8,851,859
Hawaii | 1,070,206 | Oklahoma | 2,855,349
Idaho | 1,156,869 | Oregon | 3,008,092
Illinois | 9,771,132 | Pennsylvania | 9,981,727
Indiana | 4,919,319 | Rhode Island | 831,766
Iowa | 2,337,939 | South Carolina | 3,598,675
Kansas | 2,147,316 | South Dakota | 620,926
Kentucky | 3,348,401 | Tennessee | 4,911,217
Louisiana | 3,456,640 | Texas | 18,713,943
Maine | 1,058,970 | Utah | 1,936,913
Maryland | 4,481,654 | Vermont | 500,413
Massachusetts | 5,182,521 | Virginia | 6,243,058
Michigan | 7,580,375 | Washington | 5,248,281
Minnesota | 4,067,335 | West Virginia | 1,470,570
Mississippi | 2,228,273 | Wisconsin | 4,385,559
|  | Wyoming | 433,221
Source: U.S. Census Bureau, Population Division.

Dated: January 18, 2012.
John E. Bryson,
Secretary, U.S. Department of Commerce.

[FR Doc. 2012-1635 Filed 1-25-12; 8:45 am]

BILLING CODE 3510-07-P